DEPARTMENT OF VETERANS AFFAIRS

Advisory Committee on Women Veterans; Notice of Meeting

The Department of Veterans Affairs (VA) gives notice under Public Law 92-463 (Federal Advisory Committee Act) that the Advisory Committee on Women Veterans will meet November 1-3, 2005, from 8:30 a.m. to 4:30 p.m. each day, in room C-7, VA Central Office, 810 Vermont Avenue, NW., Washington, DC 20420. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On November 1, the agenda will include a briefing from VHA's Women Veterans Health Program Director, VA's mammography program, the Commander of the Joint Task Force for Sexual Assault Prevention and Response from the Department of Defense, VA's “Seamless Transition” initiative, the required ethics briefing, an update on the 2004 Report of the Advisory Committee on Women Veterans recommendation matrix, and presentation of Certificates of Appointment to four new Committee members. On November 2, the Committee will receive briefings and updates on issues related to women veterans in the Veterans Health Administration, the National Committee for Employer Support of the Guard and Reserve, and medical exams for separating and retiring service members. On November 3, the Committee will receive briefings and updates on issues in the Veterans Benefits Administration, including the review of PTSD ratings disparities, legislative issues related to veterans, and will discuss any new issues that the Committee members may introduce.

Any member of the public wishing to attend should contact Ms. Rebecca Schiller, at the Department of Veterans Affairs, Center for Women Veterans (00W), 810 Vermont Avenue, NW., Washington, DC 20420. Ms. Schiller may be contacted either by phone at (202) 273-6193, fax at (202) 273-7092, or e-mail at 00W@mail.va.gov. Interested persons may attend, appear before, or file statements with the Committee. Written statements must be filed before the meeting, or within 10 days after the meeting.

Dated: September 19, 2005.
By direction of the Secretary.
E. Philip Riggin,
Committee Management Officer.

[FR Doc. 05-19284 Filed 9-26-05; 8:45 am]

BILLING CODE 8320-01-M